DEPARTMENT OF THE INTERIOR

National Park Service

[NPS-WASO-NRNHL-DTS#-26621; PPWOCRADI0, PCU00RP14.R50000]

National Register of Historic Places; Notification of Pending Nominations and Related Actions

AGENCY: National Park Service, Interior.

ACTION: Notice.

SUMMARY: The National Park Service is soliciting comments on the significance of properties nominated before September 29, 2018, for listing or related actions in the National Register of Historic Places.

DATES: Comments should be submitted by November 1, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before September 29, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CONNECTICUT

New Haven County

Laurel Beach Casino, 102 6th Ave., Milford, SG100003074

LOUISIANA

Livingston Parish

Denham Springs Commercial Historic District, 100-239 N Range Ave., Denham Springs, SG100003075

Orleans Parish

Holiday Inn Highrise East (Non-Residential Mid-Century Modern Architecture in New Orleans MPS), 6324 Chef Menteur Way, New Orleans, MP100003077

MARYLAND

Baltimore Independent City

Mercantile Deposit and Trust, 111 W Baltimore St., Baltimore (I), SG100003078

MINNESOTA

Hennepin County

District No. 107 School, 22995 Cty. Rd. 10, Corcoran, SG100003081

Ramsey County

Superior Packing Company, 2103 Wabash Ave., Saint Paul, SG100003083

MISSOURI

St. Charles County

Sage Chapel Cemetery, 8500 Veterans Memorial Pkwy., O'Fallon, SG100003087

St. Louis County

Old Webster Historic District, 50-54 W Moody Ave., Webster Groves, BC100003088

St. Louis Independent city

Wilkinson School, 7212 Arsenal St., St. Louis (I), SG100003086

Stockstrom, Charles, House, 3400 Russell Blvd., Saint Louis (I), SG100003089

NEBRASKA

Adams County

Hastings Downtown Historic District (Potash Highway in Nebraska MPS), Roughly bounded by W 3rd St., Burlington Northern RR, N Colorado & N Burlington Aves., Hastings, MP100003090

Hastings Downtown Historic District (Detroit-Lincoln-Denver Highway in Nebraska MPS), Roughly bounded by W 3rd St., Burlington Northern RR, N Colorado & N Burlington Aves., Hastings, MP100003090

Cass County

Dovey, George E., House, 423 N 4th St., Plattsmouth, SG100003091

Leonard, Velosco V., House, 323 N 6th St., Plattsmouth, SG100003092

Dawson County

Cozad Downtown Historic District (Lincoln Highway in Nebraska MPS), Roughly bounded by 9th, 7th, H & F Sts., Cozad, MP100003093

Madison County

Dommer—Haase Farmstead, 2400 W Eisenhower Ave., Norfolk, SG100003094

Stanton County

Stanton Carnegie Library (Carnegie Libraries in Nebraska MPS AD), 1009 Jackpine St., Stanton, MP100003095

Washington County

Marshall, George A., House, 301 N 8th St., Arlington, SG100003096

PENNSYLVANIA

Chester County

Ivy Cottage (West Whiteland Township MRA), 225 W. Lincoln Hwy., Exton, 84003961

WISCONSIN

Milwaukee County

West Mitchell Street Commercial Historic District, Generally bounded by W Forest Home Ave., S 13th, W Historic Mitchell & S 5th Sts., Milwaukee, SG100003103

Walworth County

Bucholtz, Carl and Clara, Farmstead, W425 Miller Rd., East Troy, SG100003104

In the interest of preservation, a Shortened comment period has been requested for the following resource:

NEW YORK

Onondaga County

Dietz, R.E., Company Factory (Industrial Resources in the City of Syracuse, Onondaga County, NY MPS), 225 Wilkinson St., Syracuse, MP100003097, Comment period: 3 days

An owner objection was received for the following resource:

OREGON

Umatilla County

Weston Methodist Episcopal Church, 402 E Main St., Weston, SG100003100

A request for removal has been made for the following resources:

MINNESOTA

Big Stone County

Columbian Hotel, 305 2nd St., NW, Ortonville, OT85001766

Carver County

Hebeisen, Jacob, House (Carver County MRA), Off Co. Hwy. 50, Hamburg, OT80001976

Pine County

Cloverton School (Pine County MRA), CR 32, Askov vicinity, OT80002104

Redwood County

Delhi Coronet Band Hall, 3rd St., Delhi, OT84001687

Wright County

Albertville Roller Mill (Wright County MRA), 5790 Main Ave. NE, Albertville, OT79001258

Additional documentation has been received for the following resource:

MINNESOTA

Carver County

Peterson, Andrew, Farmstead, NE of Waconia on MN 5, Waconia vicinity, AD79003713

OREGON

Deschutes County

Drake Park Neighborhood Historic District, Roughly bounded by Broadway St., Riverside Blvd., Turnalo Ave., Franklin Ave., Bend, AD05000380

Marion County

Odd Fellows Rural Cemetery, 2201 Commercial St. SE, Salem, AD13000707

Authority: Section 60.13 of 36 CFR part 60.

Dated: October 2, 2018.
Julie H. Ernstein,
Acting Chief, National Register of Historic Places/National Historic Landmarks Program and Deputy Keeper of the National Register of Historic Places.

[FR Doc. 2018-22524 Filed 10-16-18; 8:45 am]

BILLING CODE 4312-52-P